COMMISSION ON CIVIL RIGHTS

Notice of Public Meeting of the South Carolina Advisory Committee

AGENCY: U.S. Commission on Civil Rights.

ACTION: Notice of meeting.

SUMMARY: Notice is hereby given, pursuant to the provisions of the rules and regulations of the U.S. Commission on Civil Rights (Commission) and the Federal Advisory Committee Act that the South Carolina Advisory Committee (Committee) will hold a meeting via-teleconference on Thursday, April 1, 2021, at 12:00 p.m. (EST) the purpose of the meeting is to review the SAC's Findings and Recommendations on subminimum wages for people with disabilities.

DATES: The meetings will be held on:

• Thursday, April 1, at 12:00 p.m. Eastern Time, https://tinyurl.com/u26jj3ea

or Join by phone: 800-360-9505 USA Toll Free, 199 631 2231

FOR FURTHER INFORMATION CONTACT: Barbara Delaviez at bdelaviez@usccr.gov or (202) 539-8246.

SUPPLEMENTARY INFORMATION: Members of the public can listen to the discussion. This meeting is available to the public through the following toll-free call-in number. An open comment period will be provided to allow members of the public to make a statement as time allows. The conference operator will ask callers to identify themselves, the organizations they are affiliated with (if any), and an email address prior to placing callers into the conference call. Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and conference ID number.

Members of the public are also entitled to submit written comments; the comments must be received in the regional office within 30 days following the meeting. Written comments may be emailed to Carolyn Allen at callen@usccr.gov in the Regional Program Unit Office/Advisory Committee Management Unit. Persons who desire additional information may contact the Regional Program Unit Office at (202) 539-8246.

Records generated from this meeting may be inspected and reproduced at the Regional Program Unit, as they become available, both before and after the meeting. Records of the meeting will be available via https://www.facadatabase.gov/FACA/FACAPublicViewCommitteeDetails?id=a10t0000001gzmPAAQ under the Commission on Civil Rights, South Carolina Advisory Committee link. Persons interested in the work of this Committee are directed to the Commission's website, http://www.usccr.gov, or may contact the Regional Program Unit at the above email or phone number.

Agenda

1. Roll Call

2. Revision of Findings and Recommendations of Subminimum Wages report

3. Open Session

4. Adjourn

Dated: March 5, 2021.
David Mussatt,
Supervisory Chief, Regional Programs Unit.

[FR Doc. 2021-05006 Filed 3-9-21; 8:45 am]

BILLING CODE P